DEPARTMENT OF HEALTH AND HUMAN SERVICES

Food and Drug Administration

[FDA 225-00-8002]

Memorandum of Understanding Between the Food and Drug Administration, the Department of Agriculture, and the University of Puerto Rico

AGENCY: Food and Drug Administration, HHS.

ACTION: Notice.

SUMMARY: The Food and Drug Administration (FDA) is providing notice of a memorandum of understanding (MOU) between the Food and Drug Administration, the Department of Agriculture, and the University of Puerto Rico. The purpose is to establish a framework for collaboration on mutually agreed upon activities in scientific and regulatory areas.

DATES: The agreement became effective December 7, 2000.

FOR FURTHER INFORMATION CONTACT: Maritza Colon-Pullano, Office of the Commissioner (HFG-1), Food and Drug Administration, 5600 Fishers Lane, Rockville, MD 20857, 301-827-4553.

SUPPLEMENTARY INFORMATION: In accordance with 21 CFR 20.108(c), which states that all written agreements and MOU’s between FDA and others shall be published in the Federal Register, the agency is publishing notice of this MOU.

Dated: March 19, 2001.
Ann M. Witt,
Acting Associate Commissioner for Policy.

BILLING CODE 4160-01-S

[FR Doc. 01-7242 Filed 3-22-01; 8:45 am]

BILLING CODE 4160-01-C